DEPARTMENT OF TRANSPORTATION

Coast Guard

33 CFR Part 117

[CGD01-01-129]

Drawbridge Operation Regulations: Jamaica Bay and Connecting Waterways, NY

AGENCY: Coast Guard, DOT.

ACTION: Notice of temporary deviation from regulations.

SUMMARY: The Commander, First Coast Guard District, has issued a temporary deviation from the drawbridge operation regulations for the Marine Parkway (Gil Hodges Memorial) Bridge, mile 3.0, across Rockaway Inlet in New York. This deviation will allow the bridge to remain in the closed to navigation position from 8 a.m. on August 20, 2001 through 4:30 p.m. on August 25, 2001. This temporary deviation is necessary to facilitate emergency repairs at the bridge.

DATES: This deviation is effective from August 20, 2001 through August 25, 2001.

FOR FURTHER INFORMATION CONTACT: Joseph Schmied, Project Officer, First Coast Guard District, at (212) 668-7165.

SUPPLEMENTARY INFORMATION: The Marine Parkway (Gil Hodges memorial) Bridge, at mile 3.0, across Rockaway Inlet has a vertical clearance in the closed position of 55 feet at mean high water and 59 feet at mean low water. The existing drawbridge operating regulations are listed at 33 CFR 117.795(a).

The bridge owner, Triborough Bridge and Tunnel Authority, requested a temporary deviation from the drawbridge operating regulations to facilitate emergency replacement of the lift span clutch shaft bearings at the bridge.

This deviation to the operating regulations allows the Marine Parkway (Gil Hodges Memorial) Bridge to remain in the closed to navigation position from 8 a.m. on August 20, 2001 through 4:30 p.m. on August 25, 2001.

The bridge owner did not provide the required thirty-day notice to the Coast Guard for this temporary deviation; however, this deviation was approved because the repairs are vital unscheduled repairs that must be performed without delay to insure bridge operating safely and to prevent an unscheduled closure due to component failure.

This temporary deviation from the drawbridge operation regulations is authorized under 33 CFR 117.35 and will be performed with all due speed in order to return the bridge to normal operation as soon as possible.

Dated: August 6, 2001.
G.N. Naccara,
Rear Admiral, U.S. Coast Guard, Commander, First Coast Guard District.

[FR Doc. 01-20318 Filed 8-13-01; 8:45 am]

BILLING CODE 4910-15-P